DEPARTMENT OF TRANSPORTATION

National Highway Traffic Safety Administration

[Docket No. NHTSA-2014-0046; Notice 2]

Chrysler Group, LLC, Grant of Petition for Decision of Inconsequential Noncompliance

AGENCY: National Highway Traffic Safety Administration (NHTSA), Department of Transportation (DOT).

ACTION: Grant of petition.

SUMMARY: Chrysler Group, LLC, (Chrysler), now known as Fiat Chrysler Automobiles NV, has determined that certain model year (MY) 2014 Jeep Cherokee multipurpose passenger vehicles (MPV), and MY 2013-2014 Dodge Dart passenger cars (PC) do not fully comply with paragraph S5.2.1 of Federal Motor Vehicle Safety Standard (FMVSS) No. 101, Controls and Displays and paragraph S5.5.5 of FMVSS No. 135,¹ Light Vehicle Brake Systems. Chrysler has filed an appropriate report dated March 4, 2014 pursuant to 49 CFR part 573, Defect and Noncompliance Responsibility and Reports.

¹ Subsequent to receiving Chrysler's petition, NHTSA was notified by the petitioner that it had inadvertently referred to FMVSS No. 105, a standard that does not apply to the subject vehicles, in its petition.

ADDRESSES: For further information on this decision contact Stuart Seigel, Office of Vehicle Safety Compliance, National Highway Traffic Safety Administration (NHTSA), telephone (202) 366-5287, facsimile (202) 366-5930.

SUPPLEMENTARY INFORMATION: I. Chrysler's Petition: Pursuant to 49 U.S.C. 30118(d) and 30120(h) and the rule implementing those provisions at 49 CFR part 556), Chrysler has petitioned for an exemption from the notification and remedy requirements of 49 U.S.C. Chapter 301 on the basis that this noncompliance is inconsequential to motor vehicle safety.

Notice of receipt of Chrysler's petition was published, with a 30-Day public comment period, on June 30, 2014 in the Federal Register (79 FR 36868). No comments were received. To view the petition and all supporting documents log onto the Federal Docket Management System (FDMS) Web site at: http://www.regulations.gov/. Then follow the online search instructions to locate docket number “NHTSA-2014-0046.”

II. Vehicles Involved: Affected are vehicles built for the U.S. territories, approximately 411 MY 2014 Jeep Cherokee MPV manufactured between June 17, 2013 and January 14, 2014 and 22 MY 2013-2014 Dodge Dart PC manufactured between July 1, 2012 and December 13, 2013.

III. Noncompliance: Chrysler explains that the noncompliance is that the telltale used for Brake Warning and Park Brake Warning is displayed using International Organization for Standardization (ISO) symbols instead of the telltale symbol required by S5.2.1 of FMVSS No. 101 and paragraph S5.5.5 of FMVSS No. 135.

IV. Rule Text: Paragraph S5.2.1 of FMVSS No. 101 requires in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2.

Paragraph S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (⅛inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake.”. . .

V. Summary of Chrysler's Analyses: Chrysler stated its belief that the subject noncompliance is inconsequential to motor vehicle safety for the following reasons:

1. Chrysler notes that the purpose of the brake telltale is to warn the operator about either one of two conditions: (1) The parking brake is applied or is malfunctioning; or (2) the service brakes may be malfunctioning. The affected vehicles “brake display telltale” illuminates in red as required and, except for the missing identifier word “Brake,” the vehicles comply with all other applicable FMVSS requirements. When the telltale is not illuminated, there is no degradation of brake performance. All braking system functionality, including service brakes and the parking brake is unaffected by this noncompliance and the subject vehicles will operate as intended. Even though the word “Brake” is not used, Chrysler's stated its belief that in the event one of the affected vehicles displayed the red-color ISO brake telltale, the driver would recognize a possible brake system malfunction.

2. Chrysler states that the telltale functions as both the vehicle's brake system symbol and the parking brake symbol. In the Dart, the parking brake is engaged by pulling up on the parking brake handle in view of the instrument cluster where the brake telltale is illuminated. In the Cherokee, the parking brake is electronic where a 5 second “Parking Brake Engaged” message is displayed in the Electronic Vehicle Information Center (EVIC) and the brake telltale is illuminated in the instrument cluster. The brake telltale also illuminates during the cluster warning lamp function check. Due to the ISO telltale illumination during parking brake engagement and during lamp function checks, an operator is conditioned to associate the telltale with the braking system and would be alerted in the event of a possible brake system malfunction. In the unlikely event the ISO brake telltale is illuminated and the operator does not understand its meaning, the ISO brake telltale graphic is shown and described in the Owner's Manual for both vehicles. Thus, an operator could easily determine that the ISO telltale relates to the brake system.

3. Chrysler also believes that in the subject vehicles, in the event the brake fluid level is less than the recommended level, the brake telltale is illuminated and the EVIC will display a five second “Brake Fluid Low” message that continues until the condition is corrected. This additional visual input to the operator helps facilitate the association of the telltale with the braking system.

4. Chrysler has stated its belief that NHTSA has previously granted a similar inconsequential noncompliance petition regarding the use of ISO symbols.

5. Chrysler is not aware of any warranty claims, field reports, consumer complaints, legal claims or any incidents or injuries related to the subject noncompliance.

Chrysler has additionally informed NHTSA that it has corrected the noncompliance so that all future production vehicles will comply with FMVSS No. 101 and FMVSS No. 135.

In summation, Chrysler believes that the described noncompliance of the subject vehicles is inconsequential to motor vehicle safety, and that its petition, to exempt Chrysler from providing recall notification of noncompliance as required by 49 U.S.C. 30118 and remedying the recall noncompliance as required by 49 U.S.C. 30120 should be granted.

NHTSA Decision

NHTSA Analysis: NHTSA has reviewed Chrysler's justification for an inconsequential noncompliance decision and agrees that, based on the following analysis, the inadvertent use of an ISO label on the combined brake telltale for Brake Warning and the Park Brake Warning, poses little if any risk to motor vehicle safety.

Chrysler stated that there are two conditions which will cause the subject combined brake warning telltale that is located on the instrument cluster and labeled with an ISO symbol instead of the required text “BRAKE”, to illuminate:

1. The parking brake is applied; and/or

2. The brake fluid level is less than the recommended level.

For each condition, the subject combined telltale is illuminated as required with the background in contrasting colors, one of which is red.

In the Cherokee, the parking brake is engaged electronically and a 5 second “Parking Brake Engaged” message is displayed in the Electronic Vehicle Information Center. For the Dart, the parking brake is activated by pulling up on the parking brake handle which remains visible to the driver.

In the Dart and Cherokee vehicles, in the event the brake fluid is less than the recommended level, in addition to the ISO symbol illumination, redundant notification is provided to the driver of the existence of the condition by the Electronic Vehicle Information Center which displays a five second “Brake Fluid Low” message that continues until the condition is corrected.

NHTSA agrees with Chrysler's statement that the functionality of both the parking brake system and the service brake system remains unaffected by the mislabeling. Vehicle stopping distance and thus collision avoidance is not compromised due to the mislabeling.

The ISO symbol has been used on US-certified vehicles for many years in conjunction with the required text “BRAKE.” In addition, each time the driver activates the parking brake he/she will visually be reminded of the meaning of the ISO symbol. The parking brake activation and the representative ISO symbol are operationally linked. The ISO symbol is also illuminated during lamp function each time the vehicle is started. If not familiar with its meaning, the owner's manual can be referenced which will explain the relationship with the brake system. Over time, the ISO symbol has evolved to become increasingly recognizable and understandable to drivers so if activated they would likely be alerted to a possible brake system malfunction. We further believe drivers recognize that a telltale illuminated in red, even if unlabeled, represents a malfunction which needs to be remedied.

We believe that the combination of the red contrasting color of the ISO symbol, driver conditioning over time as to the meaning of the ISO symbol, the vehicle message center warning for the Cherokee indicating parking brake applied, the noticeable position of the DART parking brake lever when applied, the reduced drivability of the vehicles when the vehicle is driven with an applied parking brake, the message center warning “Low Brake Fluid” for both vehicles which remains activated until the condition is corrected, as well as the availability of the description of ISO symbol in the Owner's manual are sufficient to adequately alert the driver should the indicated problems in the braking system occur.

The manufacturer has shown that the discrepancy with the labeling requirement is unlikely to lead to any misunderstanding especially since other sources of correct information beyond the ISO symbol, are available. Lastly, we note that NHTSA has not received any consumer complaints regarding subject vehicles noncompliances.

NHTSA Decision: In consideration of the foregoing, NHTSA has decided that Chrysler has met its burden of persuasion that the FMVSS No. 101 and FMVSS No. 135 noncompliances are inconsequential to motor vehicle safety. Accordingly, Chrysler's petition is hereby granted and Chrysler is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Chrysler no longer controlled at the time it determined that the noncompliance existed. However, the granting of this petition does not relieve Chrysler distributors and dealers of the prohibitions on the sale, offer for sale, or introduction or delivery for introduction into interstate commerce of the noncompliant vehicles under their control after Chrysler notified them that the subject noncompliance existed.

Authority: (49 U.S.C. 30118, 30120: delegations of authority at 49 CFR 1.95 and 501.8).

Jeffrey M. Giuseppe,
Acting Director, Office of Vehicle Safety Compliance.

[FR Doc. 2014-30240 Filed 12-29-14; 8:45 am]

BILLING CODE 4910-59-P